FEDERAL COMMUNICATIONS COMMISSION

47 CFR Chapter I

[CC Docket No. 01-92; DA 06-1730]

Developing a Unified Intercarrier Compensation Regime

AGENCY: Federal Communications Commission.

ACTION: Proposed rule, extension of comment period.

SUMMARY: This document grants a motion requesting an extension of time to file comments on an intercarrier compensation reform plan, the “Missoula Plan.” The Order modifies the pleading cycle by extending the comment period in order to facilitate the development of a more substantive and complete record in this proceeding.

DATES: Submit comments on or before October 25, 2006. Submit reply comments on or before December 11, 2006.

ADDRESSES: You may submit comments, identified by CC Docket No. 01-92, by any of the following methods:

• Federal eRulemaking Portal: http://www.regulations.gov. Follow the instructions for submitting comments.

• Agency Web Site: http://www.fcc.gov. Follow the instructions for submitting comments on the Electronic Comment Filing System (ECFS) / http://www.fcc.gov/cgb/ecfs/.

• E-mail: To victoria.goldberg@fcc.gov. Include CC Docket 01-92 in the subject line of the message.

• Fax: To the attention of Victoria Goldberg at 202-418-1587. Include CC Docket 01-92 on the cover page.

• Mail: All filings must be addressed to the Commission's Secretary, Marlene H. Dortch, Office of the Secretary, Federal Communications Commission, 445 12th Street, SW., Washington, DC 20554. Parties should also send a copy of their filings to Victoria Goldberg, Pricing Policy Division, Wireline Competition Bureau, Federal Communications Commission, Room 5-A266, 445 12th Street, SW., Washington, DC 20554.

• Hand Delivery / Courier: The Commission's contractor, Natek, Inc., will receive hand-delivered or messenger-delivered paper filings for the Commission's Secretary at 236 Massachusetts Avenue, NE., Suite 110, Washington, DC 20002.

—The filing hours at this location are 8 a.m. to 7 p.m.

—All hand deliveries must be held together with rubber bands or fasteners.

—Any envelopes must be disposed of before entering the building.

—Commercial overnight mail (other than U.S. Postal Service Express Mail and Priority Mail) must be sent to 9300 East Hampton Drive, Capitol Heights, MD 20743.

Instructions: All submissions received must include the agency name and docket number. All comments received will be posted without change to http://www.fcc.gov/cgb/ecfs/, including any personal information provided. For detailed instructions on submitting comments and additional information on the rulemaking process, see the Public Notice requesting comment on the Missoula Plan, 71 FR 45510, August 9, 2006.

FOR FURTHER INFORMATION CONTACT: Jennifer McKee, Wireline Competition Bureau, Pricing Policy Division, (202) 418-1530, or Victoria Goldberg, Wireline Competition Bureau, Pricing Policy Division, (202) 418-7353.

SUPPLEMENTARY INFORMATION: This is a summary of the Commission's Order released August 29, 2006. The complete text of the Order is available for inspection and copying during business hours at the FCC Reference Information Center, Portals II, 445 12th St., SW., Room CY-A257, Washington, DC 20554. The documents may also be purchased from BCPI, telephone (202) 488-5300, facsimile (202) 488-5563, TTY (202) 488-5562, e-mail fcc@bcpiweb.com. To request materials in accessible formats for people with disabilities (braille, large print, electronic files, audio format), send an e-mail to fcc504@fcc.gov or call the Consumer & Governmental Affairs Bureau at 202-418-0530 (voice), 202-418-0432 (tty).

By the Order, the Wireline Competition Bureau (WCB) grants a motion requesting an extension of the comment dates and modifies the pleading cycle for comments on an intercarrier compensation plan called the “Missoula Plan.” The Missoula Plan was filed on July 24, 2006 by the National Association of Regulatory Utility Commissioners' Task Force on Intercarrier Compensation. On July 25, 2006, the WCB released a Public Notice requesting that comments on the Missoula Plan be filed by September 25, 2006, and reply comments by November 9, 2006, 71 FR 45510, August 9, 2006. On August 24, 2006, the National Association of Regulatory Utility Commissioners filed a motion requesting an extension of the comment date to October 25, 2006, and the reply comment date to December 9, 2006.

The WCB determined that providing additional time to file comments and reply comments will facilitate the development of a more substantive and complete record in this proceeding. Although it is the policy of the Commission that extensions of time shall not be routinely granted, given the extensive nature of the Missoula Plan and the complexity of the proposals contained therein, the WCB determined that good cause exists to provide parties an extension of time, from September 25, 2006 to October 25, 2006 for filing comments, and from November 9, 2006 to December 11, 2006 for filing reply comments in this proceeding.

Accordingly, it is ordered that, pursuant to sections 4(i), 4(j), and 5(c) of the Communications Act, 47 U.S.C. 154(i), 154(j), 155(c), and sections 0.91, 0.291, and 1.46 of the Commission's rules, 47 CFR 0.91, 0.291, 1.46, the pleading cycle established in this matter shall be modified as follows:

Comments Due: October 25, 2006.

Reply Comments Due: December 11, 2006.

It is further ordered that the Motion of the National Association of Regulatory Utility Commissioners for Extension of Time is granted, as set forth herein.

Federal Communications Commission.
Donald K. Stockdale,
Associate Chief, Wireline Competition Bureau.

[FR Doc. E6-15196 Filed 9-12-06; 8:45 am]

BILLING CODE 6712-01-P